DEPARTMENT OF ENERGY

Federal Energy Regulatory Commission

[Docket No. RP00-313-000]

Gas Research Institute; Notice of Annual Application

June 9, 2000.

Take notice that on June 1, 2000, Gas Research Institute (GRI) filed an application requesting advance approval of its 2001-2005 Five-Year Research, Development and Demonstration (RD&D) Plan, and the 2001 RD&D Program and the funding of its RD&D activities for 2001, pursuant to the Natural Gas Act and the Commission's Regulations, particularly 18 CFR 154.38(d)(5).

In its application, GRI proposes to incur contract obligation's of $70.0 million in 2001. Consistent with the Commission's April 29, 1998 Order Approving Settlement, GRI states that all $70.0 of the 2001 contract obligations will be for Core Projects. GRI's application seeks to collect funds to support its RD&D program through jurisdictional rates and charges during the twelve months ending December 31, 2001.

Also, consistent with the Commission's April 29, 1998 Order Approving Settlement, GRI proposes to fund the 2001 RD&D program by the use of the following surcharges: (1) A demand/reservation surcharge of 9.0 cents per Dth per Month for “high load factor customers”; (2) a demand/reservation surcharge of 5.5 cents per Dth per Month for “low load factor customers”; (3) a volumetric commodity/usage surcharge of 0.7 cents; and (4) a special “small customer” surcharge of 1.1 cents per Dth.

The Commission Staff will analyze GRI's application and prepare a Commission Staff Report. This Staff Report will be served on all parties and filed with the Commission as a public document on August 10, 2000. Comments on the Staff Report and GRI's application by all parties, except GRI, must be filed with the Commission on or before August 24, 2000. GRI's reply comments must be filed on or August 31, 2000.

Any person desiring to be heard or to protest GRI's application, except for GRI members and state regulatory commissions, who are automatically permitted to participate in the instant proceedings as intervenors, should file a motion to intervene or protest with the Federal Energy Regulatory Commission, 888 First Street, N.E., Washington, DC 20426, in accordance with the Commission's Rules and Regulations. All such motions or protests should be filed on or before June 21, 2000. All comments and protests will be considered by the Commission in determining the appropriate action to be taken, but will not serve to make protestants parties to this proceeding. Any person wishing to become a party, other than a GRI member or a state regulatory commission, must file a motion to intervene. Copies of this filing are on a file with the Commission and are available for public inspection in the public reference room.

Linwood A. Watson, Jr.,
Acting Secretary.

[FR Doc. 00-15099 Filed 6-14-00; 8:45 am]

BILLING CODE 6717-01-M